DEPARTMENT OF LABOR

Office of the Secretary

DOL Partnerships for Compliance Assistance Program (PCAP) and Request for Applications for Partnerships

AGENCY: Office of Assistant Secretary for Policy/Office of Compliance Assistance Policy (ASP/OCA), U.S. Department of Labor (DOL).

ACTION: Notice.

SUMMARY: This notice announces an opportunity for partnerships and the re-opening of the DOL Partnerships for Compliance Assistance Program (PCAP).

The primary goal of these partnerships is to better inform businesses and workers, through nonprofit third-party membership organizations, of the compliance assistance tools and resources the Department has available to help them comply with its laws and regulations.

Letters of interest from nonprofit third-party membership organizations should contain information identifying the organization, including Web site URL and promotional literature describing their mission/purpose statement and constituent information; ideas on how a DOL partnership benefits the organization's constituents, members or stakeholders; and a contact person's name, title, address and telephone number. Letters of interest in PCAP should also identify the documents in the submission that should be kept confidential (e.g., due to copyright concerns).

DATES: Letters of interest will be considered if received at the appropriate address, as provided below, no later than 5 p.m. on January 3, 2006.

ADDRESSES: To submit letters of interest, or for further information on the Partnerships for Compliance Assistance Program (PCAP), you may write to the following address: Office of Compliance Assistance Policy, Office of the Assistant Secretary for Policy, U.S. Department of Labor, Attention: Barbara Bingham, 200 Constitution Ave NW., Rm. S2312, Washington, DC 20210.

FOR FURTHER INFORMATION CONTACT: Barbara Bingham, Director of the Office of Compliance Assistance Policy, (202) 693-5080, or visit http://www.dol.gov/compliance.

SUPPLEMENTARY INFORMATION:

Background

In March 2004, the Department of Labor (DOL), through the Office of the Assistant Secretary for Policy's Office of Compliance Assistance Policy (OCA), launched the Partnerships for Compliance Assistance Program (PCAP) which is aimed at promoting greater awareness and compliance with DOL's employment laws through partnerships and activities with nonprofit third-party membership organizations. Through DOL's and its partners' efforts, PCAP increases opportunities to provide DOL's customers with assistance in complying with federal employment laws. Following the March 2004 PCAP announcement, nine organizations were recommended and approved for partnership. Partnership activities include but are not limited to dissemination of compliance assistance educational materials, participation in Web casts, e-mail alerts of new compliance assistance tools or resources, newsletter articles, Web links, and speaking engagements.

OCA is again seeking partnership applications from nonprofit third-party trade, professional or labor membership organizations that share DOL's understanding of the importance of providing clear, accurate and easy-to-access compliance assistance to employers and other stakeholders, in order to protect the wages, health benefits, retirement security, safety and health of America's workforce.

Partnership efforts are designed to provide nonprofit third-party organizations and their members with an awareness of the various laws and regulations DOL administers and where to get accurate and easy-to-access information on compliance assistance. These partnerships enable DOL to reach a greater number of businesses and workers than it could solely through its own outreach efforts.

Signed at Washington, DC, this 9th day of November, 2005.
Barbara Bingham,
Director, Office of Compliance Assistance Policy.

[FR Doc. 05-22675 Filed 11-15-05; 8:45 am]

BILLING CODE 4510-23-P